DEPARTMENT OF ENERGY

Federal Energy Regulatory Commission

[Docket No. CP04-343-000]

Paiute Pipeline Company; Notice of Application

May 28, 2004.

Take notice that on May 21, 2004, Paiute Pipeline Company (Paiute), P.O. Box 94197, Las Vegas, Nevada 89193-4197, filed in Docket No. CP04-343-000 an application pursuant to sections 7(b) and 7(c) of the Natural Gas Act (NGA) and part 157 of the Commission's regulations for an order granting a certificate of public convenience and necessity to construct compression facilities and approval to abandon facilities and services associated with its liquefied natural gas (LNG) service all as more fully set forth in the application which is on file with the Commission and open to public inspection. The filing may also be viewed on the Web at http://www.ferc.gov using the “eLibrary” link. Enter the docket number excluding the last three digits in the docket number field to access the document. For assistance, call (202) 502-3676 or TYY, (202) 502-8659.

Paiute states that as part of its transmission system, Paiute operates an LNG peak shaving facility near Lovelock, Nevada. Paiute states that it leases this peaking facility along with approximately 61 miles of 20-inch diameter loopline from Public Service Resources Corporation. The current term of the lease expires on July 6, 2005, and Paiute states that it has been unable to negotiate an extension of the lease. Paiute states that all of its LNG storage customers have given notice of their termination of their storage service and that these customers have made alternate transportation arrangements on Tuscarora Gas Transmission Company's (Tuscarora).

Specifically, Paiute proposes to: (1) Abandon the storage facility; (2) abandon approximately 61 miles of 20-inch diameter loop pipeline between the LNG storage facility and Wadsworth Junction on Paiute's mainline; (3) abandon its LNG storage services under Rate Schedule LGS-1; (4) construct and operate a new 3,747 horsepower compressor station approximately 2 miles north of the Wadsworth Junction in Washoe County, Nevada to partially replace the capacity associated with the pipeline loop; and (5) make certain minor modifications at seven locations where Paiute's 16-inch diameter mainline ties into the leased pipeline. Paiute estimates that the new compressor station will cost $9,265,000. Paiute requests a Commission order no later than December 1, 2004, to meet an in-service date of July 1, 2005.

At this time, the Commission staff cannot evaluate Paiute's proposal because Paiute has not provided sufficient detailed technical information related to the abandonment and deactivation of the LNG peak shaving facility. For this reason, Commission staff will conduct a technical conference in the near future after the comment period, at which, Paiute will be required to present detailed plans for the deactivation and abandonment of the LNG peak shaving facility's equipment, liquefier, vaporizers, pumps, compressors, tanks, instrumentation, etc., beyond the purging procedures identified in the application. Paiute will also be required to explain how these plans conform to the equipment manufacturers' recommendations.

Any questions regarding the application should be directed to Edward C. McMurtrie at (702) 876-7178, Paiute Pipeline Company, P.O. Box 94197, Las Vegas, Nevada 89193-4197.

There are two ways to become involved in the Commission's review of this project. First, any person wishing to obtain legal status by becoming a party to the proceedings for this project should, on or before the comment date, file with the Federal Energy Regulatory Commission, 888 First Street, NE, Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: June 17, 2004.

Magalie R. Salas,
Secretary.

[FR Doc. E4-1263 Filed 6-7-04; 8:45 am]

BILLING CODE 6717-01-P